DEPARTMENT OF ENERGY

Federal Energy Regulatory Commission

Combined Notice of Filings

Take notice that the Commission has received the following Natural Gas Pipeline Rate and Refund Report filings:

Filings Instituting Proceedings

Docket Numbers: RP18-100-000.

Applicants: Gulf South Pipeline Company, LP.

Description: § 4(d) Rate Filing: Cap Rel Neg Rate Agmts (Petrohawk 41455 to various eff 11-1-2017) to be effective 11/1/2017.

Filed Date: 10/31/17.

Accession Number: 20171031-5221.

Comments Due: 5 p.m. ET 11/13/17.

Docket Numbers: RP18-101-000.

Applicants: Gulf South Pipeline Company, LP.

Description: § 4(d) Rate Filing: Cap Rel Neg Rate Agmt (Methanex 42805 to BP 48730) to be effective 11/1/2017.

Filed Date: 10/31/17.

Accession Number: 20171031-5222.

Comments Due: 5 p.m. ET 11/13/17.

Docket Numbers: RP18-102-000.

Applicants: Texas Gas Transmission, LLC.

Description: § 4(d) Rate Filing: Neg Rate Agmt Filing (Indianapolis Power & Light 34015) to be effective 11/1/2017.

Filed Date: 10/31/17.

Accession Number: 20171031-5230.

Comments Due: 5 p.m. ET 11/13/17.

Docket Numbers: RP18-103-000.

Applicants: Texas Gas Transmission, LLC.

Description: § 4(d) Rate Filing: Cap Rel Neg Rate Agmts (RE Gas 35433, 34955 to BP 36710, 36712) to be effective 11/1/2017.

Filed Date: 10/31/17.

Accession Number: 20171031-5233.

Comments Due: 5 p.m. ET 11/13/17.

Docket Numbers: RP18-104-000.

Applicants: Texas Gas Transmission, LLC.

Description: § 4(d) Rate Filing: Cap Rel Neg Rate Agmt (Kaiser 35448 to Kaiser 36730) to be effective 11/1/2017.

Filed Date: 10/31/17.

Accession Number: 20171031-5235.

Comments Due: 5 p.m. ET 11/13/17.

Docket Numbers: RP18-105-000.

Applicants: Rockies Express Pipeline LLC.

Description: § 4(d) Rate Filing: Neg Rate 2017-10-31 CP to be effective 11/1/2017.

Filed Date: 10/31/17.

Accession Number: 20171031-5245.

Comments Due: 5 p.m. ET 11/13/17.

Docket Numbers: RP18-106-000.

Applicants: Algonquin Gas Transmission, LLC.

Description: § 4(d) Rate Filing: Negotiated Rate—IDT To BP—contract 795292 to be effective 11/1/2017.

Filed Date: 10/31/17.

Accession Number: 20171031-5286.

Comments Due: 5 p.m. ET 11/13/17.

Docket Numbers: RP18-107-000.

Applicants: Gulf South Pipeline Company, LP.

Description: § 4(d) Rate Filing: Cap Rel Neg Rate Agmts (EOG 34687 to various eff 11-1-17) to be effective 11/1/2017.

Filed Date: 10/31/17.

Accession Number: 20171031-5294.

Comments Due: 5 p.m. ET 11/13/17.

Docket Numbers: RP18-108-000.

Applicants: Tennessee Gas Pipeline Company, L.L.C.

Description: § 4(d) Rate Filing: Volume No. 2—Connecticut Exp Project—Amendment to Gas Trans Agmt to be effective 11/1/2017.

Filed Date: 10/31/17.

Accession Number: 20171031-5297.

Comments Due: 5 p.m. ET 11/13/17.

Docket Numbers: RP18-109-000.

Applicants: Transcontinental Gas Pipe Line Company.

Description: § 4(d) Rate Filing: Negotiated Rates—Cherokee AGL—Replacement Shippers—Nov 2017 to be effective 11/1/2017.

Filed Date: 10/31/17.

Accession Number: 20171031-5303.

Comments Due: 5 p.m. ET 11/13/17.

Docket Numbers: RP18-110-000.

Applicants: Texas Eastern Transmission, LP.

Description: § 4(d) Rate Filing: Negotiated Rates—Piedmont to Emera 8948562 to be effective 11/1/2017.

Filed Date: 10/31/17.

Accession Number: 20171031-5307.

Comments Due: 5 p.m. ET 11/13/17.

Docket Numbers: RP18-111-000.

Applicants: Kern River Gas Transmission Company.

Description: § 4(d) Rate Filing: 2017 November Negotiated Rates to be effective 11/1/2017.

Filed Date: 10/31/17.

Accession Number: 20171031-5310.

Comments Due: 5 p.m. ET 11/13/17.

Docket Numbers: RP18-112-000.

Applicants: Texas Eastern Transmission, LP.

Description: § 4(d) Rate Filing: Negotiated Rates—EQT Releases to Pacific Summit to be effective 11/1/2017.

Filed Date: 10/31/17.

Accession Number: 20171031-5340.

Comments Due: 5 p.m. ET 11/13/17.

Docket Numbers: RP18-113-000.

Applicants: Texas Eastern Transmission, LP.

Description: § 4(d) Rate Filing: Negotiated Rates—City of Dalton to Centerpoint 8948517 to be effective 11/1/2017.

Filed Date: 10/31/17.

Accession Number: 20171031-5352.

Comments Due: 5 p.m. ET 11/13/17.

Docket Numbers: RP18-114-000.

Applicants: Guardian Pipeline, L.L.C.

Description: § 4(d) Rate Filing: Update Statement of Negotiated Rates—November 2017 to be effective 11/1/2017.

Filed Date: 10/31/17.

Accession Number: 20171031-5353.

Comments Due: 5 p.m. ET 11/13/17.

Docket Numbers: RP18-115-000.

Applicants: Guardian Pipeline, L.L.C.

Description: § 4(d) Rate Filing: Update Non-Conforming and Negotiated Rate Agreements—November 2017 to be effective 11/1/2017.

Filed Date: 10/31/17.

Accession Number: 20171031-5354.

Comments Due: 5 p.m. ET 11/13/17.

Docket Numbers: RP18-116-000.

Applicants: Texas Eastern Transmission, LP.

Description: § 4(d) Rate Filing: TETLP ASA DEC 2017 FILING to be effective 12/1/2017.

Filed Date: 10/31/17.

Accession Number: 20171031-5363.

Comments Due: 5 p.m. ET 11/13/17.

Docket Numbers: RP18-117-000.

Applicants: Rockies Express Pipeline LLC.

Description: § 4(d) Rate Filing: Neg Rate (7 new) 10-31-2017 to be effective 11/1/2017.

Filed Date: 10/31/17.

Accession Number: 20171031-5365.

Comments Due: 5 p.m. ET 11/13/17.

Docket Numbers: RP18-118-000.

Applicants: Tennessee Gas Pipeline Company, L.L.C.

Description: § 4(d) Rate Filing: Section 311 Filing to be effective 12/1/2017.

Filed Date: 10/31/17.

Accession Number: 20171031-5371.

Comments Due: 5 p.m. ET 11/13/17.

Docket Numbers: RP18-119-000.

Applicants: El Paso Natural Gas Company, L.L.C.

Description: § 4(d) Rate Filing: Pathing to Off-System Locations to be effective 12/1/2017.

Filed Date: 10/31/17.

Accession Number: 20171031-5372.

Comments Due: 5 p.m. ET 11/13/17.

Docket Numbers: RP18-120-000.

Applicants: Wyoming Interstate Company, L.L.C.

Description: § 4(d) Rate Filing: Firm Daily Balancing Service to be effective 12/1/2017.

Filed Date: 10/31/17.

Accession Number: 20171031-5374.

Comments Due: 5 p.m. ET 11/13/17.

Docket Numbers: RP18-76-000.

Applicants: Equitrans, L.P.

Description: Compliance filing Operational Purchases and Sales Report for 2017.

Filed Date: 10/31/17.

Accession Number: 20171031-5067.

Comments Due: 5 p.m. ET 11/13/17.

Docket Numbers: RP18-77-000.

Applicants: Algonquin Gas Transmission, LLC.

Description: § 4(d) Rate Filing: Negotiated Rates—Con Ed Ramapo Releases eff 11-1-2017 to be effective 11/1/2017.

Filed Date: 10/31/17.

Accession Number: 20171031-5068.

Comments Due: 5 p.m. ET 11/13/17.

Docket Numbers: RP18-78-000.

Applicants: Equitrans, L.P.

Description: § 4(d) Rate Filing: Negotiated Rate Service Agreements—BP MEA J Aron to be effective 11/1/2017.

Filed Date: 10/31/17.

Accession Number: 20171031-5069.

Comments Due: 5 p.m. ET 11/13/17.

Docket Numbers: RP18-79-000.

Applicants: Algonquin Gas Transmission, LLC.

Description: § 4(d) Rate Filing: Negotiated Rates—BUG Ramapo Releases eff 11-1-2017 to be effective 11/1/2017.

Filed Date: 10/31/17.

Accession Number: 20171031-5074.

Comments Due: 5 p.m. ET 11/13/17.

Docket Numbers: RP18-80-000.

Applicants: Texas Eastern Transmission, LP.

Description: § 4(d) Rate Filing: Negotiated Rates—Con Ed NJNY Releases eff 11-1-2017 to be effective 11/1/2017.

Filed Date: 10/31/17.

Accession Number: 20171031-5096.

Comments Due: 5 p.m. ET 11/13/17.

Docket Numbers: RP18-81-000.

Applicants: Algonquin Gas Transmission, LLC.

Description: § 4(d) Rate Filing: Negotiated Rates—KeySpan Ramapo Releases eff 11-1-2017 to be effective 11/1/2017.

Filed Date: 10/31/17.

Accession Number: 20171031-5099.

Comments Due: 5 p.m. ET 11/13/17.

Docket Numbers: RP18-82-000.

Applicants: Algonquin Gas Transmission, LLC.

Description: § 4(d) Rate Filing: Negotiated Rate—Direct Energy—contract 795251 to be effective 11/1/2017.

Filed Date: 10/31/17.

Accession Number: 20171031-5100.

Comments Due: 5 p.m. ET 11/13/17.

Docket Numbers: RP18-83-000.

Applicants: Rager Mountain Storage Company LLC.

Description: § 4(d) Rate Filing: URL Update to be effective 12/1/2017.

Filed Date: 10/31/17.

Accession Number: 20171031-5101.

Comments Due: 5 p.m. ET 11/13/17.

Docket Numbers: RP18-84-000.

Applicants: Rover Pipeline LLC.

Description: § 4(d) Rate Filing: Non-Conforming Agreements—1 in compliance with CP15-93 Order to be effective 12/1/2017.

Filed Date: 10/31/17.

Accession Number: 20171031-5102.

Comments Due: 5 p.m. ET 11/13/17.

Docket Numbers: RP18-85-000.

Applicants: Rover Pipeline LLC.

Description: § 4(d) Rate Filing: Non-Conforming Agreement List Update—1 to be effective 12/1/2017.

Filed Date: 10/31/17.

Accession Number: 20171031-5103.

Comments Due: 5 p.m. ET 11/13/17.

Docket Numbers: RP18-86-000.

Applicants: ETC Tiger Pipeline, LLC.

Description: § 4(d) Rate Filing: Fuel Filing on 10-31-17 to be effective 12/1/2017.

Filed Date: 10/31/17.

Accession Number: 20171031-5104.

Comments Due: 5 p.m. ET 11/13/17.

Docket Numbers: RP18-87-000.

Applicants: Fayetteville Express Pipeline LLC.

Description: § 4(d) Rate Filing: Fuel Filing on 10-31-17 to be effective 12/1/2017.

Filed Date: 10/31/17.

Accession Number: 20171031-5105.

Comments Due: 5 p.m. ET 11/13/17.

Docket Numbers: RP18-88-000.

Applicants: Florida Southeast Connection, LLC.

Description: § 4(d) Rate Filing: Re-Collation of Tariffs to be effective 10/31/2017.

Filed Date: 10/31/17.

Accession Number: 20171031-5142.

Comments Due: 5 p.m. ET 11/13/17.

Docket Numbers: RP18-89-000.

Applicants: Alliance Pipeline L.P.

Description: § 4(d) Rate Filing: Contract Extension Direct Energy to be effective 10/31/2017.

Filed Date: 10/31/17.

Accession Number: 20171031-5149.

Comments Due: 5 p.m. ET 11/13/17.

Docket Numbers: RP18-90-000.

Applicants: Algonquin Gas Transmission, LLC.

Description: § 4(d) Rate Filing: Negotiated Rates—KeySpan Ramapo Releases 2 eff 11-1-2017 to be effective 11/1/2017.

Filed Date: 10/31/17.

Accession Number: 20171031-5165.

Comments Due: 5 p.m. ET 11/13/17.

Docket Numbers: RP18-91-000.

Applicants: Transcontinental Gas Pipe Line Company.

Description: § 4(d) Rate Filing: Rate Schedules GSS & LSS Tracker—eff 11-1-2017 to be effective 11/1/2017.

Filed Date: 10/31/17.

Accession Number: 20171031-5174.

Comments Due: 5 p.m. ET 11/13/17.

Docket Numbers: RP18-92-000.

Applicants: Wyoming Interstate Company, L.L.C.

Description: § 4(d) Rate Filing: FLU Update Filing to be effective 12/1/2017.

Filed Date: 10/31/17.

Accession Number: 20171031-5180.

Comments Due: 5 p.m. ET 11/13/17.

Docket Numbers: RP18-93-000.

Applicants: Northern Natural Gas Company.

Description: § 4(d) Rate Filing: 20171031 Negotiated Rate to be effective 11/1/2017.

Filed Date: 10/31/17.

Accession Number: 20171031-5183.

Comments Due: 5 p.m. ET 11/13/17.

Docket Numbers: RP18-94-000.

Applicants: Gulf Crossing Pipeline Company LLC.

Description: § 4(d) Rate Filing: Amendment to Neg Rate Agmt (BP 37-25) to be effective 11/1/2017.

Filed Date: 10/31/17.

Accession Number: 20171031-5197.

Comments Due: 5 p.m. ET 11/13/17.

Docket Numbers: RP18-95-000.

Applicants: Gulf South Pipeline Company, LP.

Description: § 4(d) Rate Filing: Cap Rel Neg Rate Agmt (FPL 41618 to DTE 48614) to be effective 11/1/2017.

Filed Date: 10/31/17.

Accession Number: 20171031-5198.

Comments Due: 5 p.m. ET 11/13/17.

Docket Numbers: RP18-96-000.

Applicants: Gulf South Pipeline Company, LP.

Description: § 4(d) Rate Filing: Amendment to Neg Rate Agmt (Sequent 34693-41) to be effective 11/1/2017.

Filed Date: 10/31/17.

Accession Number: 20171031-5199.

Comments Due: 5 p.m. ET 11/13/17.

Docket Numbers: RP18-97-000.

Applicants: Gulf South Pipeline Company, LP.

Description: § 4(d) Rate Filing: Cap Rel Neg Rate Agmt (Atmos 45527 to CenterPoint 48643) to be effective 11/1/2017.

Filed Date: 10/31/17.

Accession Number: 20171031-5200.

Comments Due: 5 p.m. ET 11/13/17.

Docket Numbers: RP18-98-000.

Applicants: Gulf South Pipeline Company, LP.

Description: § 4(d) Rate Filing: Cap Rel Neg Rate Agmts (Atlanta 8438 to various eff 11-1-17) to be effective 11/1/2017.

Filed Date: 10/31/17.

Accession Number: 20171031-5202.

Comments Due: 5 p.m. ET 11/13/17.

Docket Numbers: RP18-99-000.

Applicants: BNP Paribas Energy Trading GP, Morgan Stanley Capitol Group Inc.

Description: Joint Petition of BNP Paribas Energy Trading GP, et al. for Waiver of Commission Capacity Release Regulations and Policies, Related Natural Gas Pipeline Tariff Provisions, et al.

Filed Date: 10/31/17.

Accession Number: 20171031-5215.

Comments Due: 5 p.m. ET 11/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2017.
Kimberly D. Bose,
Secretary.

[FR Doc. 2017-24193 Filed 11-6-17; 8:45 am]

BILLING CODE 6717-01-P